DEPARTMENT OF COMMERCE

Minority Business Development Agency

[Docket No. 000724217-1278-04]

Amendment to Selection Procedures To Include Site Visits

AGENCY: Minority Business Development Agency, Commerce.

ACTION: Notice.

SUMMARY: This notice announces the Minority Business Development Agency's (MBDA) amendment of prior Federal Register notices published by MBDA that identified selection procedures for MBDA's Minority Business Development Center Program and its Native American Business Development Center Program. MBDA amends the selection procedures to provide that the National Director or his designee reserves the right to conduct a site visit to the location of qualified applicants receiving an average of at least 70% of the total points available for all four evaluation criterion.

DATES: December 10, 2001.

FOR FURTHER INFORMATION CONTACT: Ms. Juanita E. Berry at (202) 482-3262.

SUPPLEMENTARY INFORMATION: Under Executive Order 11625, MBDA provides business development services to persons who are members of groups determined by the U. S. Department of Commerce to be socially or economically disadvantaged, and to business concerns owned and controlled by such individuals.

MBDA has determined that site visits to qualified applicants would support MBDA's selection and would confirm the applicant's stated ability to best fulfill MBDA's Funding Priorities, particularly identifying and working to meet the needs of minority businesses seeking to obtain large-scale contracts with institutional customers, as set out in the prior Federal Register Notices (65 FR 52069 and 66 FR 58990).

Therefore, MBDA's prior Federal Register notices (65 FR 52069 and 66 FR 41202 and 66 FR 58990) are hereby amended to provide that the National Director or his designee reserves the right to conduct a site visit to applicant organizations receiving an average of at least 70% of the total points available for all four evaluation criterion in order to assist with the application of the selection procedures provided at 65 FR 52083 and 52095 and 66 FR 59000.

The Department of Commerce Pre-Award Notification Requirements for Grants and Cooperative Agreements contained in the Federal Register notice of October 1, 2001 (66 FR 49917), are applicable to this notice.

Executive Order 12866: This notice was determined to be not significant for purposes of E.O. 12866.

Administrative Procedure Act: The provisions of the Administrative Procedure Act requiring notice of proposed rulemaking, the opportunity for public participation, and a delay in effective date, are inapplicable because this notice is a matter relating to public property, loans, grants, benefits, or contracts 5 U.S.C. 553(a)(2),

Regulatory Flexibility Act: Because a notice of proposed rulemaking and opportunities for public comment are not required to be given for this notice by 5 U.S.C. 553 or by any other law, the analytical requirements of the Regulatory Flexibility Act, 5 U.S.C. 601 are inapplicable.

Executive Order 13132: This notice does not contain policies with Federalism implications as that term is defined in Executive Order 13132.

Authority: 15 U.S.C. 1512 and Executive Order 11625.

Dated: December 4, 2001.
Juanita E. Berry,
Federal Register Liaison Officer, Minority Business Development Agency.
Ronald N. Langston,
National Director, Minority Business Development Agency.

[FR Doc. 01-30416 Filed 12-7-01; 8:45 am]

BILLING CODE 3510-21-P